FEDERAL COMMUNICATIONS COMMISSION

47 CFR Part 54

[WC Docket No. 11-42; DA 14-303]

Guidance to Eligible Telecommunications Carriers on the Process To Elect USAC To Perform Lifeline Recertification

AGENCY: Federal Communications Commission.

ACTION: Final rule.

SUMMARY: In this document, the Wireline Competition Bureau (Bureau) provides guidance regarding the process for eligible telecommunications carriers (ETCs) to elect the Universal Service Administrative Company (USAC) to perform Lifeline recertification for their subscribers in 2014.

DATES: Effective March 27, 2014.

FOR FURTHER INFORMATION CONTACT: Jonathan Lechter, Wireline Competition Bureau, (202) 418-7387 or TTY: (202) 418-0484.

SUPPLEMENTARY INFORMATION: This is a synopsis of the Commission's document in WC Docket No. 11-42; DA 14-303, released March 5, 2014. The complete text of this document is available for inspection and copying during normal business hours in the FCC Reference Information Center, Portals II, 445 12th Street SW., Room CY-A257, Washington, DC 20554. The document may also be purchased from the Commission's duplicating contractor, Best Copy and Printing, Inc. (BCPI), 445 12th Street SW., Room CY-B402, Washington, DC 20554, telephone (800) 378-3160 or (202) 863-2893, facsimile (202) 863-2898, or via the Internet at http://www.bcpiweb.com. It is also available on the Commission's Web site at http://www.fcc.gov/document/guidance-etcs-regarding-2014-usac-lifeline-recertification-process.

1. In the 2012 Lifeline Reform Order, 77 FR 12784, March 2, 2012, the Commission required ETCs to recertify the eligibility of ETCs' base of subscribers “annually.” Starting in 2013, ETCs had the option of having USAC conduct the annual recertification process on their behalf. The Commission delegated to the Bureau the authority to establish, in coordination with USAC, a process for USAC to recertify subscribers. This process for 2013 was described in detail in the 2013 Recert Notice, 78 FR 35632, June 13, 2013, and, as explained below, remains largely the same for 2014.

2. ETCs must provide notice to USAC by April 1, 2014 if they intend to have USAC perform the recertification process on their behalf for 2014. Any ETC that used USAC to perform recertification in 2013 will be presumed to elect USAC to perform recertification in 2014 unless the carrier notifies USAC otherwise by April 1, 2014. ETCs that did not elect to use USAC last year and that do not make an election by April 1, 2014 will be responsible for conducting recertification of their subscribers.

3. ETCs should perform their election or revocation by sending an email to USAC at LiVerifications@usac.org. USAC will provide guidance to ETCs regarding format of the information in the email.

4. Consistent with the process in 2013, USAC will recertify subscribers by mailing each subscriber a letter that provides the subscriber the notice required by § 54.405(e)(4) of the Commission's rules, informing the subscriber that the subscriber has 30 days to recertify the subscriber's continued eligibility to receive Lifeline service or the subscriber will be de-enrolled from the Lifeline program. The letter will also explain the recertification process and how the subscriber may confirm his or her eligibility. Subscribers will also receive a call or text message during the 30-day period to prompt a response. Any subscriber response submitted after the 30-day deadline will not be processed, and the subscriber will be considered ineligible for the program and will be de-enrolled.

5. USAC will provide subscribers with three methods to respond to the letter and recertify their eligibility. First, USAC will accept consumer calls made to a toll-free number, during which consumers will be able to recertify eligibility through an Inter-Active Voice Response (IVR). Second, USAC will allow consumers to verify their identity, read the certification language, and submit a response indicating they are recertifying their eligibility through a Web site maintained by USAC. Third, subscribers may also recertify by signing a recertification form provided by USAC and mailing the signed form to a receiving address designated by USAC.

6. ETCs that elect to have USAC recertify their Lifeline subscribers must provide USAC with their subscriber list by May 1, 2014. Consistent with the Commission's recertification requirements, the subscriber list must be based on the ETC's February 2014 FCC Form 497 and must be sent to USAC in a standardized format as instructed by USAC. To the extent that a state agency conducts recertification for all or a portion of an ETC's subscribers, the ETC may not elect to utilize USAC for recertifying those subscribers subject to recertification by the state agency. Therefore, prior to transmittal to USAC, the ETC should remove from its subscriber list those subscribers that are subject to the state agency's recertification process. Each ETC that elects USAC to perform the recertification process will provide a toll-free number that USAC can provide to the ETC's consumers who have questions about their service.

7. USAC will complete the recertification process over a series of months, by grouping the ETCs that elect to have USAC complete the process into phases so that the influx of responses can be staggered. This grouping will be done randomly and staggered based upon USAC capacity.

8. USAC will compile the responses and provide each ETC with a record of the subscriber recertification. USAC will provide each ETC with a list of subscribers that did not recertify, and therefore must be de-enrolled, and provide ETCs with sufficient information to compile their FCC Form 555 at least 30 days before the annual January 31 due date. ETCs must de-enroll subscribers within five days of receiving notice from USAC that the subscriber has failed to recertify. As noted above, all active subscribers enrolled in Lifeline prior to 2014 and for which the ETC sought reimbursement on its February 2014 FCC Form 497 are subject to recertification in 2014.

9. The Bureau concludes that good cause exists to make the procedures established in this document effective immediately (March 27, 2014), pursuant to section 553(d)(3) of the Administrative Procedure Act. The Bureau also finds good cause based on the need for these procedures to be in place and available to ETCs in time for ETCs to be able to submit their elections to USAC, and provide USAC with a subscriber list in time to comply with the procedures adopted here.

10. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

Federal Communications Commission.
Kimberly A. Scardino,
Division Chief, Telecommunications Access Policy Division, Wireline Competition Bureau.

[FR Doc. 2014-06732 Filed 3-26-14; 8:45 am]

BILLING CODE 6712-01-P